DEPARTMENT OF COMMERCE

International Trade Administration

RIN: A-520-804

Certain Steel Nails From the United Arab Emirates: Preliminary Results of Antidumping Duty Administrative Review; 2011-2013

AGENCY: Enforcement and Compliance, International Trade Administration, Department of Commerce

SUMMARY: The Department of Commerce (the Department) is conducting the first administrative review of the antidumping duty order on certain steel nails (nails) from the United Arab Emirates (UAE). The period of review (POR) is November 3, 2011, through April 30, 2013. The review covers two producers/exporters of the subject merchandise, Dubai Wire FZE (Dubai Wire) and Precision Fasteners, L.L.C. (Precision). We preliminarily find that Dubai Wire and Precision sold subject merchandise at less than normal value in the United States during the POR. Interested parties are invited to comment on these preliminary results.

DATES: Effective Date: June 24, 2014.

FOR FURTHER INFORMATION CONTACT: Bryan Hansen or Michael Romani, AD/CVD Operations, Office I, Enforcement and Compliance, International Trade Administration, U.S. Department of Commerce, 14th Street and Constitution Avenue NW., Washington, DC 20230; telephone: (202) 482-3683, and (202) 482-0198, respectively.

SUPPLEMENTARY INFORMATION:

Scope of the Order

The merchandise subject to the Order ¹ is certain steel nails from the UAE. The products are currently classifiable under the Harmonized Tariff Schedule of the United States (HTSUS) subheadings 7317.00.55, 7317.00.65, and 7317.00.75. Although the HTSUS numbers are provided for convenience and customs purposes, the written product description, remains dispositive.²

¹ Certain Steel Nails from the United Arab Emirates: Amended Final Determination of Sales at Less Than Fair Value and Antidumping Duty Order, 77 FR 27421 (May 10, 2012) (Order).

² A full description of the scope of the order is contained in the memorandum to Ronald K. Lorentzen, Acting Assistant Secretary for Enforcement and Compliance, from Christian Marsh, Deputy Assistant Secretary for Antidumping and Countervailing Duty Operations, “Certain Steel Nails from the United Arab Emirates: Decision Memorandum for Preliminary Results of Antidumping Duty Administrative Review; 2011-2013” dated concurrently with and hereby adopted by this notice (Preliminary Decision Memorandum).

The Preliminary Decision Memorandum is a public document and is on file electronically via Enforcement and Compliance's Antidumping and Countervailing Duty Centralized Electronic Service System (IA ACCESS). Access to IA ACCESS is available to registered users at http://iaaccess.trade.gov and is available to all parties in the Central Records Unit, room 7046 of the main Department of Commerce building. In addition, a complete version of the Preliminary Decision Memorandum can be accessed directly on the Internet at http://enforcement.trade.gov/frn/index.html. A list of the topics discussed in the Preliminary Decision Memorandum is attached as an Appendix to this notice. The signed and electronic versions of the Preliminary Decision Memorandum are identical in content.

Methodology

The Department conducted this review in accordance with section 751(a)(2) of the Tariff Act of 1930, as amended (the Act). Export price is calculated in accordance with section 772 of the Act. Normal value is calculated in accordance with section 773 of the Act. For a full description of the methodology underlying our conclusions, see Preliminary Decision Memorandum.

Facts Available

For the preliminary results, we have relied, in part, on facts available. Because we lack necessary Dubai Wire sales and cost data, we determine that it is appropriate to apply “facts otherwise available” pursuant to section 776(a)(2)(B) of the Act. We further determine that an adverse inference is not warranted in accordance with section 776(b) of the Act because, pursuant to section 782(e) of the Act, Dubai Wire acted to the best of its ability to comply with our requests for information and we have sufficient sales and cost information on the record to calculate a margin for Dubai Wire. Because Precision did not act to the best of its ability to respond to the Department's request for information, we have drawn an adverse inference in selecting from among the facts otherwise available, pursuant to 776(a) and (b) of the Act. For a full description of the methodology underlying our conclusions, see Preliminary Decision Memorandum.

Preliminary Results of Review

As a result of this review, we preliminarily determine that the following weighted-average dumping margins on certain steel nails from the UAE exist for the period November 3, 2011, through April 30, 2013 at the following rates:

Company | Weighted-average dumping margin (percent)
Dubai Wire FZE | 3.88
Precision Fasteners, L.L.C. | 184.41

Disclosure and Public Comment

We intend to disclose the calculations performed to parties in this proceeding within five days after the date of publication of this notice in accordance with 19 CFR 351.224(b). Pursuant to 19 CFR 351.309(c), interested parties may submit cases briefs not later than 30 days after the date of publication of this notice. Rebuttal briefs, limited to issues raised in the case briefs, may be filed not later than five days after the date for filing case briefs.³ Parties who submit case briefs or rebuttal briefs in this proceeding are encouraged to submit with each argument: (1) a statement of the issue; (2) A brief summary of the argument; and (3) a table of authorities.⁴

³ See 19 CFR 351.309(d).

⁴ Id.; see also 19 CFR 351.303 (for general filing requirements).

Pursuant to 19 CFR 351.310(c), interested parties who wish to request a hearing, or to participate if one is requested, must submit a written request to the Assistant Secretary for Enforcement and Compliance, filed electronically via IA ACCESS. An electronically filed document must be received successfully in its entirety by the Department's electronic records system, IA ACCESS, by 5 p.m. Eastern Time within 30 days after the date of publication of this notice. Requests should contain: (1) The party's name, address and telephone number; (2) the number of participants; and (3) a list of issues to be discussed. Issues raised in the hearing will be limited to those raised in the respective case and rebuttal briefs. The Department intends to issue the final results of this administrative review, including the results of its analysis of the issues raised in any written briefs, not later than 120 days after the date of publication of this notice, pursuant to section 751(a)(3)(A) of the Act and 19 CFR 351.213(h)(1).

Assessment Rates

Upon issuance of the final results, the Department shall determine and U.S. Customs and Border Protection (CBP) shall assess antidumping duties on all appropriate entries covered by this review. If we continue to rely on adverse facts available to establish Precision's weighted-average dumping margin, we will instruct CBP to apply an ad valorem assessment rate of 184.41 percent to all entries of subject merchandise during the POR which were produced and/or exported by Precision. If Dubai Wire's weighted-average dumping margin is not zero or de minimis in the final results of this review, we will calculate importer-specific ad valorem assessment rates on the basis of the ratio of the total amount of antidumping duties calculated for an importer's examined sales and the total entered value of such sales in accordance with 19 CFR 351.212(b)(1). If Dubai Wire's weighted-average dumping margin is zero or de minimis in the final results of review, we will instruct CBP to liquidate the appropriate entries without regard to antidumping duties in accordance with the Final Modification for Reviews, i.e., “{w}here the weighted-average margin of dumping for the exporter is determined to be zero or de minimis, no antidumping duties will be assessed.” ⁵ We will instruct CBP to take into account the “provisional measures cap” in accordance with 19 CFR 351.212(d).

⁵ See Antidumping Proceedings: Calculation of the Weighted-Average Dumping Margin and Assessment Rate in Certain Antidumping Proceedings; Final Modification, 77 FR 8101, 8102 (February 14, 2012).

The Department clarified its “automatic assessment” regulation on May 6, 2003.⁶ This clarification will apply to entries of subject merchandise during the POR produced by Dubai Wire for which it did not know its merchandise was destined for the United States. In such instances, we will instruct CBP to liquidate unreviewed entries at the all-others rate if there is no rate for the intermediate company(ies) involved in the transaction.

⁶ For a full discussion of this clarification, see Antidumping and Countervailing Duty Proceedings: Assessment of Antidumping Duties, 68 FR 23954 (May 6, 2003) (Assessment Policy Notice).

We intend to issue instructions to CBP 15 days after publication of the final results of this review.

Cash Deposit Requirements

The following deposit requirements will be effective upon publication of the notice of final results of administrative review for all shipments of nails from the UAE entered, or withdrawn from warehouse, for consumption on or after the date of publication as provided by section 751(a)(2) of the Act: (1) The cash deposit rate for Dubai Wire and Precision will be the rate established in the final results of this administrative review; (2) for previously reviewed or investigated companies not listed above, the cash deposit rate will continue to be the company-specific rate published for the most recently completed segment of this proceeding; (3) if the exporter is not a firm covered in this review, a prior review, or the original investigation but the manufacturer is, the cash deposit rate will be the rate established for the manufacturer of the merchandise for the most recently completed segment of this proceeding; (4) the cash deposit rate for all other manufacturers or exporters will continue to be 4.30 percent.⁷ These cash deposit requirements, when imposed, shall remain in effect until further notice.

⁷ The all-others rate established in the Order.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act, and 19 CFR 351.213(h)(1).

Dated: June 18, 2014.
Ronald K. Lorentzen,
Acting Assistant Secretary for Enforcement and Compliance.

Appendix

List of Topics Discussed in the Preliminary Decision Memorandum

Summary

Background

Scope of the Order

Comparisons to Normal Value

A. Determination of Comparison Method

B. Results of Differential Pricing Analysis

Product Comparisons

Date of Sale

Export Price

Normal Value

A. Home Market Viability as Comparison Market

B. Level of Trade

C. Calculation of Normal Value Based on Comparison Market Prices

D. Cost of Production

Facts Available

Dubai Wire

Precision

A. Use of Facts Available

B. Application of Facts Available With an Adverse Inference

Currency Conversion

[FR Doc. 2014-14718 Filed 6-23-14; 8:45 am]

BILLING CODE 3510-DS-P